DEPARTMENT OF THE INTERIOR

Fish and Wildlife Service

Endangered Species Recovery Permit Application

AGENCY: Fish and Wildlife Service, Interior.

ACTION: Notice of receipt of permit applications.

SUMMARY: We invite the public to comment on the following applications to conduct certain activities with endangered species.

DATES: Comments on these permit applications must be received on or before July 13, 2006.

ADDRESSES: Written data or comments should be submitted to the U.S. Fish and Wildlife Service, Chief, Endangered Species, Ecological Services, 911 NE. 11th Avenue, Portland, Oregon 97232-4181 (telephone: 503-231-2063; fax: 503-231-6243). Please refer to the permit number for the application when submitting comments. All comments received, including names and addresses, will become part of the official administrative record and may be made available to the public.

FOR FURTHER INFORMATION CONTACT: Linda Belluomini, Fish and Wildlife Biologist, at the above Portland address.

SUPPLEMENTARY INFORMATION: The following applicants have applied for survival enhancement permits to conduct certain activities with an endangered species pursuant to section 10(a)(1)(A) of the Endangered Species Act (16 U.S.C. 1531 et seq.). The U.S. Fish and Wildlife Service (“we”) solicits review and comment from the public, and from local, State, and Federal agencies on the following permit requests.

Permit No. TE-054394

Applicant: The Bureau of Land Management, Medford, Oregon

The permittee requests an amendment to remove/reduce to possession (collect seeds) the Lomatium cookii (Cook's lomatium) in conjunction with scientific research in Jackson and Josephine Counties, Oregon, for the purpose of enhancing its survival.

Permit No. TE-125969

Applicant: Hendrik Aalbert Thomassen, Leiden, The Netherlands

The applicant requests a permit to take (capture, measure, collect biological samples, band, and release; and record vocalizations) the nightingale reed warbler (Acrocephalus luscinius) in conjunction with ecological and genetics research on the islands of Guam, Saipan, and Alamagan for the purpose of enhancing its survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: May 23, 2006.
Theresa E. Rabot,
Acting Regional Director, Region 1, U.S. Fish and Wildlife Service.

[FR Doc. E6-9164 Filed 6-12-06; 8:45 am]

BILLING CODE 4310-55-P